DEPARTMENT OF HOMELAND SECURITY

Coast Guard

[USCG 2004-17674]

Coast Guard Inspection and Certification of Permanently Moored Vessels

AGENCY: Coast Guard, DHS.

ACTION: Notice of proposed policy; request for comments.

SUMMARY: The Coast Guard seeks comments on our proposed policy that, beginning January 1, 2006, the Coast Guard will no longer inspect gaming vessels that are permanently moored vessels (PMVs). We are issuing this notice to inform the public and affected State legislatures that we intend to more strictly and consistently enforce our long-standing policies regarding the inspection and certification of PMVs and, beginning January 1, 2006, will no longer issue a Certificate of Inspection to any vessel that is considered “substantially a land structure.” This notice is expected to affect gaming, casino, or other vessels that are designed and constructed to go into PMV operations to satisfy a state requirement for obtaining a gaming license.

DATES: Comments must reach the Coast Guard on or before September 20, 2004.

ADDRESSES: You may submit comments identified by Coast Guard docket number USCG-2004-17674 to the Docket Management Facility at the U.S. Department of Transportation. To avoid duplication, please use only one of the following methods:

(1) Web site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

FOR FURTHER INFORMATION CONTACT: For questions on this proposed policy, contact Lieutenant Commander Nussbaumer of the Coast Guard's Office of Compliance, telephone 202-267-2978. For questions on viewing, or submitting material to, the docket, call Andrea M. Jenkins, Program Manager, Docket Operations, telephone 202-366-0271.

SUPPLEMENTARY INFORMATION:

Comments and Viewing Documents Referenced in This Notice

We encourage you to comment on this notice. If you wish to do so, please send your comment and any related materials to the Docket Management Facility at the address under ADDRESSES. All comments received will be posted, without change, to http://dms.dot.gov and will include any personal information you have provided. We have an agreement with the Department of Transportation (DOT) to use the Docket Management Facility. Please see DOT's “Privacy Act” paragraph below.

Submitting comments: If you submit a comment, please include your name and address, and identify the docket number (USCG-2004-17674). You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope.

Viewing comments and documents: To view comments, as well as documents mentioned in this notice as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and History of Policy

The Coast Guard inspects passenger vessels and promulgates regulations on the inspections of these vessels under authority from Congress, 46 U.S.C. 3301 and 3306. Our regulations, for example 46 CFR 70.05-1, exclude certain vessels from inspection requirements while they are laid up or in other situations when they are not capable of navigating.

The Coast Guard Marine Safety Manual, Volume II, Section B, Chapter 4.I (available at http://www.uscg.mil/hq/g-m/nmc/pubs/msm/vol2.htm) defines “permanently moored vessels” (PMVs) as vessels that are removed from navigation and are not inspected by the Coast Guard. Examples of PMVs include showboats, theaters, hotels, gaming sites, restaurants, museums, and business offices on a barge.

Initially, gaming vessels were designed and operated as traditional vessels that got underway on a regular basis. More recently, however, many gaming vessels have changed their operation and now remain permanently moored. Some are sited within a fixed and secured impoundment, and are structurally connected to shoreside hotel accommodations, land-based water and electrical sources, and sewage pipes. Some vessels that currently possess a valid Certificate of Inspection issued by the U.S. Coast Guard either cannot get underway or can do so only with great difficulty.

Under state law, some gaming vessels must have a Coast Guard COI to obtain and maintain a gaming license. For example, the State of Louisiana permits gaming activities on riverboats and defines “riverboat” as a vessel that carries a valid Coast Guard COI, 27 Louisiana Rev. Stat. §§ 44 & 70.

For many years, we have responded to requests of gaming vessels for Certificates of Inspection (COI) and have issued a COI if the vessel meets requirements in 46 CFR chapter I—either in subchapter H for passenger vessels or subchapter K for small passenger vessels carrying more than 150 passengers or with overnight accommodations for more than 49 passengers—or the equivalent alternative vessel standards in Navigation and Vessel Inspection Circular (NVIC) 8-93.

Current Circumstances

The Coast Guard has recently received a design proposal for a new generation of gaming waterborne structures intended to be built as PMVs. This new design far exceeds the parameters envisioned by vessel regulatory standards. The design places a vessel inside a permanent impoundment or cofferdam. And in this new-generation design proposal, the structural fire protection standards related to means of escape, safe refuge and dimensions of spaces onboard more closely align with shoreside structures than with requirements in 46 CFR chapter I, subchapters K and H, or the equivalent alternative vessel standards in Navigation and Vessel Inspection Circular (NVIC) 8-93.

While PMVs are not required to have COIs, in the past the Coast Guard has voluntarily inspected vessel designs that were in fact PMVs. As previously noted, the evolving nature of gaming vessels has resulted in PMVs that are more like a building than a vessel, and are physically restricted from navigating on waterways. In the face of this development, we must reiterate our policies with regard to PMVs and clarify our future intent toward these structures.

Maintaining a valid COI requires expenditure of both Coast Guard resources for inspections and vessel owner resources for complying with Coast Guard regulations. Whether they get underway or not, vessels with a U.S. Coast Guard COI must remain in full compliance with Coast Guard regulations.

Proposed Policy

Under our proposed policy, starting January 1, 2006, the Coast Guard will no longer issue COIs to PMVs and we will no longer inspect PMVs that currently have a COI.

The Coast Guard will notify all PMVs that currently have a COI and cognizant State and local authorities that this proposed policy would affect them. We have proposed the January 1, 2006 date for terminating inspections of these PMVs to allow for the transition of safety oversight from the Coast Guard to local authorities. By continuing our voluntary inspections through December 31, 2005, we provide PMV owners, with current COIs, time to arrange for inspections by state or local authorities to ensure their PMV is in compliance with state and local regulations that may be applicable in the absence of inspections by the Coast Guard.

Dated: June 10, 2004.
T.H. Gilmour,
Rear Admiral, U.S. Coast Guard, Assistant Commandant for Marine Safety, Security and Environmental Protection.

[FR Doc. 04-13975 Filed 6-18-04; 8:45 am]

BILLING CODE 4910-15-P